DEPARTMENT OF THE INTERIOR

Bureau of Land Management

[BLM_CO_FRN_MO4500178689]

Notice of Availability of the Proposed Resource Management Plan and Final Supplemental Environmental Impact Statement for the Colorado River Valley Field Office and Grand Junction Field Office Resource Management Plans, Colorado

AGENCY: Bureau of Land Management, Department of the Interior.

ACTION: Notice of availability.

SUMMARY: In compliance with the National Environmental Policy Act of 1969, as amended, and the Federal Land Policy and Management Act of 1976, as amended (FLPMA), the Bureau of Land Management (BLM) has prepared a proposed Resource Management Plan (RMP) and final supplemental Environmental Impact Statement (EIS) for the Colorado River Valley Field Office (CRVFO) and Grand Junction Field Office (GJFO) Resource Management Plans and by this notice is announcing the start of a 30-day protest period of the proposed RMP.

DATES: This notice announces the beginning of a 30-day protest period to the BLM on the proposed RMP. Protests must be postmarked or electronically submitted on the BLM's ePlanning site within 30 days of the date that the Environmental Protection Agency (EPA) publishes its Notice of Availability (NOA) of the proposed RMP and final supplemental EIS in the Federal Register. The EPA usually publishes its NOAs on Fridays.

ADDRESSES: The proposed RMP and final supplemental EIS is available on the BLM ePlanning project website at https://eplanning.blm.gov/eplanning-ui/project/2016085/510. Documents pertinent to this proposal may be examined online at https://eplanning.blm.gov/eplanning-ui/project/2016085/510 and at the Colorado River Valley and Grand Junction Field Offices.

Instructions for filing a protest with the BLM for the proposed RMP and final supplemental EIS for the CRVFO and GJFO RMPs can be found at: https://www.blm.gov/programs/planning-and-nepa/public-participation/filing-a-plan-protest and at 43 CFR 1610.5-2.

FOR FURTHER INFORMATION CONTACT: Heather Sauls, Project Manager; telephone: 970-878-3855; address: BLM Upper Colorado River District, 2518 H Road, Grand Junction, CO 81506; email: ucrd-seis@blm.gov. Individuals in the United States who are deaf, deafblind, hard of hearing, or have a speech disability may dial 711 (TTY, TDD, or TeleBraille) to access telecommunications relay services for contacting Ms. Sauls. Individuals outside the United States should use the relay services offered within their country to make international calls to the point-of-contact in the United States.

SUPPLEMENTARY INFORMATION: The planning area is located in Garfield, Mesa, Eagle, Pitkin, Routt, Rio Blanco, and Montrose Counties, Colorado, and encompasses approximately 1.56 million acres of public land and 1.92 million acres of Federal mineral estate. CRVFO and GJFO management is identified in their respective 2015 RMPs. Apart from fluid mineral leasing decisions, all existing management as described in the CRVFO and GJFO approved RMPs remains in effect.

Purpose and Need for the Planning Effort

The purpose of this supplemental EIS is to broaden the range of alternatives in the 2015 CRVFO and GJFO approved RMPs with respect to the lands that are allocated as open or closed for oil and gas leasing. The purpose is also to provide additional air quality analysis for the fluid mineral management alternatives considered in the 2014 CRVFO final EIS, the 2015 GJFO final EIS, and in this supplemental EIS.

The need for this supplemental EIS is to comply with the settlement agreements in litigation of the CRVFO RMP (Wilderness Workshop v. BLM, 16-cv-01822) and subsequent oil and gas leasing in both field offices (Wilderness Workshop v. BLM, 18-cv-00987). The need is also to revisit the GJFO RMP as described in the BLM's motion for voluntary remand in litigation associated with the GJFO RMP (Center for Biological Diversity v. BLM, 19-cv-02869). The need is also to consider new information and to consider areas with Tribal significance per the Tribal Consultations for Oil and Gas Leasing Handbook, Section 1.3.

Alternatives Considered in the Draft Supplemental EIS

The BLM analyzed two additional alternatives (E and F) in detail in the draft supplemental EIS. The three action alternatives (B through D) and the no action alternative (A) from the 2014 CRVFO and the 2015 GJFO final EISs remain within the range of alternatives considered. Alternative E would close the areas with no-known, low, and medium potential for fluid minerals to future fluid mineral leasing. Alternative E would also close areas that would be allocated as closed to fluid mineral leasing in alternative C of the 2014 CRVFO and 2015 GJFO final EISs. Alternative E would designate the potential areas of critical environmental concern (ACECs) that were analyzed as closed to leasing in alternative C of the 2014 CRVFO and 2015 GJFO final EISs. Alternative F would close the same areas as alternative E to future fluid mineral leasing, as well as additional areas identified by the public during scoping. Alternative F would designate one FLPMA Section 202 Wilderness Study Area.

The State Director had identified Alternative E as the preferred alternative in the draft supplemental EIS.

Public Involvement

The BLM received a total of 373 letter submissions during the public comment period on the supplemental EIS, including seven letters which contained non-unique, preformulated language that appeared elsewhere in letter submissions. There were 366 unique submissions, from which the BLM derived 407 unique substantive comments.

Most submissions were focused on suggestions for specific alternatives or alternative elements, statements pertaining to the reasonably foreseeable development (RFD) scenario, and detailed input pertaining to various resource topics analyzed in the draft supplemental EIS, such as air quality and climate, social and economic conditions, and special designations.

Changes Between the Draft Supplemental EIS and the Final Supplemental EIS

Based on public comments on the draft supplemental EIS, the BLM has updated the final supplemental EIS and developed several new appendices. The BLM has provided responses to substantive comments in Appendix F. Some comments questioned whether the RFD scenarios remained valid in light of more recent United States Geological Survey (USGS) assessments. In Appendix G, the BLM provided a review of the USGS assessments and a review of recent development trends to explain that the RFDs remain valid. The final supplemental EIS has also been updated with additional information for the socioeconomics and environmental justice impacts analyses. The BLM developed an analysis of the cumulative effects of the simultaneous ongoing planning efforts the BLM is conducting in Colorado, which is included in Appendix J.

Summary of the Proposed RMP

The proposed RMP (Alternative G) in the final supplemental EIS draws from a combination of components from the various alternatives. Alternative G would retain the areas closed to fluid mineral leasing in the 2015 CRVFO and GJFO RMPs (same as alternative B) and would retain the fluid mineral stipulations. Within the CRVFO, areas closed to oil and gas leasing in the 2015 RMP include: all Wilderness Study Areas (WSAs); lands within municipal boundaries; the Upper Colorado River Special Recreation Management Area (SRMA); Blue Hill, Bull Gulch, Deep Creek, and Thompson Creek ACECs; Deep Creek, Flat Tops Addition, Pisgah Mountain, and Thompson Creek lands with wilderness characteristics; Deep Creek and two Colorado River segments found eligible for inclusion in the National Wild and Scenic Rivers System; and all State wildlife areas. Within the GJFO, areas closed to oil and gas leasing in the 2015 RMP include: all WSAs; Bangs, Dolores River, and Palisade Rim SRMAs; Gunnison River Bluffs Extensive Recreation Management Area; Badger Wash, Dolores River Riparian, Juanita Arch, Rough Canyon, Sinbad Valley, The Palisade, and Unaweep Seep ACECs; Bangs, Maverick, and Unaweep lands with wilderness characteristics; Gunnison sage-grouse critical habitat and greater sage-grouse habitat within one mile of an active lek; Grand Junction and Palisade municipal watersheds; and Bureau of Reclamation withdrawal areas.

Alternative G would also close the no-known and low oil and gas development potential areas to future fluid mineral leasing, except for the helium potential area in GJFO, which would remain open to leasing. Medium oil and gas development potential areas would be closed where they are surrounded by low oil and gas development potential areas within the CRVFO. Medium oil and gas development potential areas that are either adjacent to CRVFO high oil and gas development potential areas or surrounded by GJFO high oil and gas development potential areas would remain open for oil and gas leasing. The high potential areas would generally remain open for fluid mineral leasing. Within the high potential and open medium potential areas, there would be areas closed to fluid mineral leasing due to specific resource concerns. Geothermal resources would remain open to leasing, except for those within areas closed to oil and gas leasing due to specific resource concerns, and fluid mineral stipulations in the approved RMPs would apply.

Alternative G would also close five existing designated ACECs to fluid mineral leasing to protect their relevant and important values, including the Glenwood Springs Debris Flow Hazard Zones and Grand Hogback ACECs in CRVFO and Atwell Gulch, Indian Creek, and Pyramid Rock ACECs in GJFO. Alternative G would expand the existing Grand Hogback ACEC in CRVFO and Pyramid Rock ACEC in GJFO.

Within the CRVFO, Alternative G would designate the Castle Peak Addition lands with wilderness characteristics unit as a wilderness study area and would close to oil and gas leasing the Thompson Divide Withdrawal Area in CRVFO, consistent with the boundary described in Public Land Order No. 7939. Within the GJFO, Alternative G would manage Cone Mountain, Granite Creek, Kings Canyon, Lumsden Canyon, and West Creek units for protection of their wilderness characteristics.

Increased protections for the Roan and Carr Creeks ACECs and Jerry Creek, Mesa/Powderhorn, and Collbran municipal water source areas within the GJFO would be provided through application of No Surface Occupancy stipulations.

Protest of the Proposed RMP

The BLM planning regulations state that any person who participated in the preparation of the RMP and has an interest that will or might be adversely affected by approval of the proposed RMP may protest its approval to the BLM. Protest on the proposed RMP constitutes the final opportunity for administrative review of the proposed land use planning decisions prior to the BLM adopting an approved RMP.

Instructions for filing a protest with the BLM regarding the proposed RMP may be found online at the website in the ADDRESSES section above. All protests must be in writing and mailed to the appropriate address or submitted electronically through the BLM ePlanning project website listed in the ADDRESSES section. Protests submitted electronically by any means other than the ePlanning project website or by fax will be invalid unless a hard copy of the protest is submitted.

The BLM will render a written decision on each protest. The decision of the BLM on the protest shall be the final decision of the Department of the Interior. Responses to valid protest issues will be compiled and documented in a Protest Resolution Report made available following the protest resolution online at: https://www.blm.gov/programs/planning-and-nepa/public-participation/protest-resolution-reports. Upon resolution of protests, the BLM will issue a Record of Decision and Approved RMP.

Before including your phone number, email address, or other personal identifying information in your protest, you should be aware that your entire protest—including your personal identifying information—may be made publicly available at any time. While you can ask us in your protest to withhold your personal identifying information from public review, we cannot guarantee that we will be able to do so.

(Authority: 40 CFR 1506.6, 40 CFR 1506.10, 43 CFR 1610.2, 43 CFR 1610.5)

Douglas J. Vilsack,
BLM Colorado State Director.

[FR Doc. 2024-13452 Filed 6-20-24; 8:45 am]

BILLING CODE 4331-16-P